DEPARTMENT OF THE INTERIOR

Fish and Wildlife Service

Receipt of an Application for an Incidental Take Permit for Florida Scrub-jays Resulting From the Proposed Construction of a Combination Single-Family Home Subdivision and Commercial Facilities in the City of Melbourne, Brevard County, FL

AGENCY: Fish and Wildlife Service, Interior.

ACTION: Notice.

SUMMARY: Riverside Development Group, Inc. (Applicant) requests an incidental take permit (ITP) for a duration of two years, pursuant to section 10(a)(1)(B) of the Endangered Species Act of 1973 (Act) as amended (U.S.C. 1531 et seq.). The Applicant anticipates the loss of about 1.57 acres of occupied Florida scrub-jay (Aphelocoma coerulescens) (scrub-jay) habitat in Section 8, Township 27 South, Range 37 East, in the City of Melbourne, Brevard County, Florida. Habitat loss would occur as a result of vegetation clearing and the subsequent construction of a 126 unit single-family home subdivision and commercial facilities on the 36-acre project site. The loss of one scrub-jay family could occur as a result of the Applicant's proposed project.

The Applicant's Habitat Conservation Plan (HCP) describes the mitigation and minimization measures proposed to address the effects of the project on the Florida scrub-jay. These measures are also outlined in the Service's Environmental Assessment (EA) and in the SUPPLEMENTARY INFORMATION section below. The Service announces the availability of the ITP application, HCP, and EA. Copies of the application, HCP, and EA may be obtained by making a request to the Southeast Regional Office (see ADDRESSES). Requests must be in writing to be processed. This notice is provided pursuant to section 10 of the Act and National Environmental Policy Act regulations (40 CFR 1506.6).

DATES: Written comments on the ITP application, EA, and HCP should be sent to the Service's Southeast Regional Office (see ADDRESSES) and should be received on or before February 21, 2006.

ADDRESSES: Persons wishing to review the application, EA, and HCP may obtain a copy by writing the Service's Southeast Regional Office, U.S. Fish and Wildlife Service, 1875 Century Boulevard, Suite 200, Atlanta, Georgia 30030 (Attn: Endangered Species Permits). Please reference permit number TE102635-0 in such requests. Documents will also be available for public inspection by appointment during normal business hours at either the Southeast Regional Office or at the Jacksonville Field Office, U.S. Fish and Wildlife Service, 6620 Southpoint Drive South, Suite 310, Jacksonville, Florida 32216-0912 (Attn: Field Supervisor).

FOR FURTHER INFORMATION CONTACT: Mr. David Dell, Regional HCP Coordinator, Southeast Regional Office (see ADDRESSES above), telephone: 404/679-7313, facsimile: 404/679-7081; or Mr. Michael Jennings, Fish and Wildlife Biologist, Jacksonville Field Office (see ADDRESSES above), telephone: 904/232-2580, ext. 113.

SUPPLEMENTARY INFORMATION: If you wish to comment, you may submit comments by any one of several methods. Please reference permit number TE102635-0 in such comments. You may mail comments to the Service's Southeast Regional Office (see ADDRESSES). You may also comment via the Internet to david_dell@fws.gov. Please submit comments over the Internet as an ASCII file, avoiding the use of special characters and any form of encryption. Please also include your name and return address in your e-mail message. If you do not receive a confirmation from us that we have received your e-mail message, contact us directly at either telephone number listed above (see FOR FURTHER INFORMATION CONTACT). Finally, you may hand deliver comments to either Service office listed above (see ADDRESSES).

Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay (scrub-jay) is geographically isolated from other species of scrub-jays found in Mexico and the western United States. The scrub-jay is found exclusively in peninsular Florida and is restricted to xeric uplands (well-drained, sandy soil habitats supporting a growth of oak-dominated scrub). Increasing urban and agricultural development has resulted in habitat loss and fragmentation which has adversely affected the distribution and numbers of scrub-jays. The total estimated population is between 7,000 and 11,000 individuals.

The decline in the number and distribution of scrub-jays in east-central Florida has been exacerbated by agricultural land conversions and urban growth in the past 50 years. Much of the historic commercial and residential development has occurred on the dry soils that previously supported scrub-jay habitat. Based on existing soils data, much of the historic and current scrub-jay habitat of coastal east-central Florida occurs proximal to the current shoreline and larger river basins. Much of this area of Florida was settled early because few wetlands restricted urban and agricultural development. Due to the effects of urban and agricultural development over the past 100 years, much of the remaining scrub-jay habitat is now relatively small and isolated. What remains is largely degraded, due to interruption of natural fire regime that is needed to maintain xeric uplands in conditions suitable for scrub-jays.

From 2000 through 2002, one family of scrub-jays was found using 7.22 acres within the project site. Scrub-jays using the project site are part of a larger complex of scrub-jays located in a matrix of urban and natural settings in areas of central and south Brevard County. Scrub-jays in urban areas are particularly vulnerable and typically do not successfully produce young that survive to adulthood. Persistent urban growth in this area will likely further reduce the amount of suitable habitat for scrub-jays. Increasing urban pressures are also likely to result in the continued degradation of scrub-jay habitat, as the lack of naturally occurring fires slowly results in vegetative overgrowth. Thus, over the long-term, scrub-jays are unlikely to persist in urban settings, and conservation efforts for this species should target acquisition and management of large parcels of land outside the direct influence of urbanization. The retention of small patches of habitat similar to the onsite mitigation proposed by the Applicant, however, could provide benefits to scrub-jays by creating “stepping stones” used by scrub-jays dispersing between larger parcels of conservation lands in Brevard County.

Construction of the project's infrastructure and facilities would result in harm to scrub-jays, incidental to the carrying out of these otherwise lawful activities. Specifically, habitat alteration associated with the proposed residential and commercial construction and associated infrastructure would reduce the availability of foraging, sheltering, and possible nesting habitat for one family of scrub-jays.

The Applicant proposes to minimize impacts to scrub-jays by reducing the project's footprint and avoiding active nest sites during the breeding season. The Applicant proposes to mitigate the take of scrub-jays by removing 5.65 acres of occupied scrub-jay habitat from the project's development footprint. In addition, the Applicant proposes to set aside and manage an additional 0.77 acres of unoccupied, but restorable onsite habitat as a buffer to the adjacent occupied habitat. Fee title to the entire onsite mitigation area would be transferred to Brevard County, and its Environmentally Endangered Lands Program would subsequently assume management responsibilities for the mitigation property. The Applicant proposes to establish an escrow account in the amount of $7,704 to pay for the costs of initial land restoration and management activities that would be undertaken prior to fee title transfer to Brevard County.

The Service has made a preliminary determination that the issuance of the ITP is not a major Federal action significantly affecting the quality of the human environment within the meaning of section 102(2)(C) of the National Environmental Policy Act. This preliminary information may be revised due to public comment received in response to this notice and is based on information contained in the EA and HCP.

The Service will evaluate the HCP and comments submitted thereon to determine whether the application meets the requirements of section 10(a) of the Act. If it is determined that those requirements are met, the ITP would be issued for the incidental take of the Florida scrub-jay. The Service will also evaluate whether issuance of the section 10(a)(1)(B) ITP complies with section 7 of the Act by conducting an intra-Service section 7 consultation. The results of this consultation, in combination with the above findings, will be used in the final analysis to determine whether or not to issue the ITP.

Dated: December 1, 2005.
Cynthia K. Dohner,
Acting Regional Director, Southeast Region.

[FR Doc. E5-7664 Filed 12-21-05; 8:45 am]

BILLING CODE 4310-55-P